FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 011346-025.

Title: Israel Carrier Association.

Parties: Maersk Line A/S and ZIM Integrated Shipping Services, Ltd.

Filing Party: Wayne Rohde; Cozen O'Connor; 1200 19th Street NW., Washington, DC 20036.

Synopsis: The amendment deletes American President Lines, Ltd. as a party to the agreement.

Agreement No.: 012457.

Title: Siem Car Carriers AS/“K” Line Space Charter Agreement.

Parties: The China Navigation Company Pte Ltd. and Kyowa Shipping Co., Ltd.

Filing Party: Ashley W. Craig; Venable LLP; 575 Seventh Street NW., Washington, DC 20004.

Synopsis: The Agreement authorizes Siem Car Carriers AS and K Line to charter space to each other in the trades between the U.S. on the one hand, and ports in China, Japan, South Korea, Thailand, Mexico, and Germany on the other hand.

Agreement No.: 012458.

Title: CNCo/Kyowa Space Charter Agreement (Korea, Guam and Saipan).

Parties: The China Navigation Company Pte Ltd. and Kyowa Shipping Co., Ltd.

Filing Party: Neal M. Mayer; Hoppel, Mayer & Coleman; 1050 Connecticut Ave. NW., 5th Floor, Washington, DC 20036.

Synopsis: The Agreement authorizes The China Navigation Co. Pte Ltd. and Kyowa Shipping Co. Ltd. to charter space to each other on an “as needed/as available” basis in the trade between Korea on the one hand, and Guam and Saipan on the other hand.

Agreement No.: 012459.

Title: Crowley/King Ocean Space Charter Agreement—Eastern Caribbean and South American Services.

Parties: Crowley Caribbean Services, LLC and King Ocean Services Limited, Inc.

Filing Party: Wayne Rohde; Cozen O'Connor; 1200 19th Street NW., Washington, DC 20036.

Synopsis: The Agreement authorizes Crowley to charter space to King Ocean in the trade from the U.S. East Coast to Guyana, Surinam and Trinidad, and authorizes King Ocean to charter space to Crowley in the trade from the U.S. East Coast to St. Maarten, St. Lucia and Barbados. It also authorizes the parties to charter space to each other on an “as needed/as available” basis for the northbound movement of empty containers.

By Order of the Federal Maritime Commission.
Dated: February 3, 2017.
Rachel E. Dickon,
Assistant Secretary.

[FR Doc. 2017-02590 Filed 2-7-17; 8:45 am]

BILLING CODE 6731-AA-P